DEPARTMENT OF AGRICULTURE

Rural Business-Cooperative Service

Notice of Request for Extension of a Currently Approved Information Collection

AGENCY: Rural Business-Cooperative Service, USDA.

ACTION: Proposed collection; comments requested.

SUMMARY: In accordance with the Paperwork Reduction Act of 1995, this notice announces the Rural Housing Service's intention to request an extension for a currently approved information collection in support of the program for 7 CFR part 4290.

DATES: Comments on this notice must be received by September 10, 2007 to be assured of consideration.

FOR FURTHER INFORMATION CONTACT: Michael Foore, Program Advisor, Rural Development, Business and Cooperative Programs, 1400 Independence Ave., SW., Stop 3201, Washington, DC 20250-3201, Telephone: (202) 690-4730.

SUPPLEMENTARY INFORMATION: Title: “Rural Business Investment Program”.

OMB Number: 0570-0051.

Expiration Date of Approval: December 31, 2007.

Type of Request: Extension of a currently approved information collection.

Abstract: The Rural Business Investment Program “RBIP”) is a Developmental Venture Capital program for the purpose of promoting economic development and the creation of wealth and job opportunities in Rural Areas and among individuals living in such areas through the licensing of Rural Business Investment Companies (“RBICs”).

The information USDA seeks to collect is critical to the integrity of the process for selecting RBICs for participation in the RBIP and to the accomplishment of the objectives of the RBIP. Without this collection of information, USDA would be unable to meet the requirements of the Act and effectively administer the RBIP, ensuring safety and soundness.

Estimate of Burden: Public reporting burden for this collection of information is estimated to average 10 hours per respondent.

Respondents: Newly established, for-profit entities applying for RBIC licensure) and licensed RBICs (venture capital companies approved by USDA to participate in the RBIP).

Estimated Number of Respondents: 108.

Estimated Number of Responses per Respondent: 6.

Estimated Number of Responses: 612.

Estimated Total Annual Burden on Respondents: 6,689.

Copies of this information collection can be obtained from Cheryl Thompson, Regulations and Paperwork Management Branch, Support Services Division at (202) 692-0043.

Comments

Comments are invited on: (a) Whether the proposed collection of information is necessary for the proper performance of the functions of USDA, including whether the information will have practical utility; (b) the accuracy of USDA's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments on this information collection may be submitted by any of the following methods:

• Federal eRulemaking Portal: http://www.regulations.gov. Follow the instructions for submitting comments.

• Mail: Submit written comments via the U.S. Postal Service to the Branch Chief, Regulations and Paperwork Management Branch, U.S. Department of Agriculture, STOP 0742, 1400 Independence Avenue, SW., Washington, DC 20250-0742.

• Hand Delivery/Courier: Submit written comments via Federal Express Mail or other courier service requiring a street address to the Branch Chief, Regulations and Paperwork Management Branch, U.S. Department of Agriculture, 300 7th Street, SW., 7th Floor, Washington, DC 20024.

All responses to this notice will be summarized and included in the request for OMB approval. All comments will also become a matter of public record.

Dated: July 3, 2007.
Ben Anderson,
Acting Administrator, Rural Business-Cooperative Service.

[FR Doc. E7-13394 Filed 7-10-07; 8:45 am]

BILLING CODE 3410-XY-P